NATIONAL AERONAUTICS AND SPACE ADMINISTRATION

[Notice 06-052]

Centennial Challenges 2006 Tether Challenge

AGENCY: National Aeronautics and Space Administration (NASA).

ACTION: Notice of Centennial Challenges 2006 Tether Challenge.

SUMMARY: This notice is issued in accordance with 42 U.S.C. 2451 (314)(d). The 2006 Tether Challenge is now scheduled and teams that wish to compete may now register. The NASA Centennial Challenges Program is a program of prize contests to stimulate innovation and competition in space exploration and ongoing NASA mission areas. The 2006 Tether Challenge is a prize contest designed to develop very strong tether material for use in various structural applications. The 2006 Tether Challenge is being administered for NASA by the Spaceward Foundation. Their Web site is: http://www.spaceward.org. The Centennial Challenges Web site is centennialchallenges.nasa.gov.

DATES: The 2006 Tether Challenge will be held October 20-21, 2006 as part of the X Prize Cup event in Las Cruces, NM.

ADDRESSES: The 2006 Tether Challenge will be held at the X Prize Cup at the Las Cruces International Airport, 8990 Zia Blvd., Las Cruces, NM 88007. Questions and comments regarding the NASA Centennial Challenges Program should be addressed to Mr. Ken Davidian, Suite 2M14, Centennial Challenges Program, Exploration Systems Mission Directorate, NASA, 20546-0001.

FOR FURTHER INFORMATION CONTACT: Mr. Ken Davidian, Suite 2M14, Centennial Challenges Program, Exploration Systems Mission Directorate, NASA, 20546-0001, (202) 358-0748, kdavidian@nasa.gov.

To register for and get additional information regarding the 2006 Tether Challenge, visit: http://www.elevator2010.org/site/competitionTether2006.html.

SUPPLEMENTARY INFORMATION:

Summary

The purpose of the 2006 Tether Challenge is to develop very strong tether material for use in various structural applications. The competition requires a 50% improvement in breaking force from year to year, starting with a commercially available tether in 2005. Additional requirements (such as operating temperature range, vacuum compatibility, and controlled electrical conductivity) will be added in future years.

I. Challenge Basis and Prize Amount

The complete 2006 Tether Challenge purse is $250,000. The 2006 Tether Challenge will be conducted in two rounds. The first round will pit tethers from two teams directly against each other to determine the team with the strongest tether. The second round will determine if the first-round winner is at least 50% stronger than a house tether that represents off-the-shelf materials. If it is, that team will win the competition.

II. Eligibility

The Centennial Challenges Program has established the following language in the Challenge Team Agreements governing eligibility. For this section, Challenge is the 2006 Tether Challenge.

Team is defined as an individual, organization or corporation, or a group of individuals, organizations or corporations that register to participate in Challenge. Team is comprised of a Team Leader and Team Members.

Team Leader is defined as a single individual, organization, or corporation, which is the sole agent representing Team regarding its participation in Challenge. Team Leaders that are individuals must be U.S. citizens. Team Leaders that are organizations or corporations must be incorporated in the U.S. and majority-owned and controlled by U.S. citizens. Corporate or other organizational Team Leaders must appoint an individual who is an officer of the Corporation or organization to represent the Team Leader.

Team Members are defined as the participants on the Team that are not the Team Leader. If a Team consists of a single individual, then in this case the Team Member is also the Team Leader. Individuals and corporate entities that are other than U.S. citizens or entities may be Team Members, subject to written request to and approval by Spaceward. All Team Members will apply to register for the Challenge through Team Leader and must receive written concurrence by Spaceward.

All Team Members must execute an “Adoption of Agreement” committing to all terms of this Agreement. By signing below, Team Leader represents that all Team Members have executed the Adoption of Agreement and that no one else will become a member of the Team or participate in the Challenge until such new Team Member has signed this Agreement. Spaceward may disqualify any Team if it discovers that a person is acting as a Team Member who has not signed this Agreement. Team Leader will provide Spaceward with a copy of the “Adoption of Agreement” signed by each team member.

Any U.S. Government organization or organization principally or substantially funded by the Federal Government, including Federally Funded Research and Development Centers, Government-owned, contractor operated (GOCO) facilities, and University Affiliated Research Centers, are ineligible to be a Team Leader or Team Member. U.S. Government employees may not participate in the Challenge as Team Leader or Team Member.

Team Members may participate in Challenge on more than one Team.

Rules

The rules for the 2006 Tether Challenge can be found at: http://www.elevator2010.org/site/competitionTether2006.html.

Dated: August 8, 2006.
Scott J. Horowitz,
Associate Administrator, Exploration Systems Mission Directorate.

[FR Doc. E6-13496 Filed 8-15-06; 8:45 am]

BILLING CODE 7510-13-P